DEPARTMENT OF JUSTICE

Civil Rights Division; Agency Information Collection Activities: Proposed Collection: Comment Request

ACTION: 60-day notice of information collection under review: Extension of a currently approved collection; Procedures for the Administration of Section 5 of the Voting Rights Act of 1965.

The Department of Justice (DOJ) Civil Rights Division, has submitted the following information collection request to the Office of Management and Budget (OMB) for review and approval in accordance with the Paperwork Reduction Act of 1995. The proposed information collection is published to obtain comments from the public and affected agencies. Comments are encouraged and will be accepted for 60 days until March 15, 2002. This process is conducted in accordance with 5 CFR 1320.10.

If you have comments, especially on the estimated public burden or associated response time, suggestions, or need a copy of the proposed information collection instrument with instructions or additional information, please contact George Schneider, Special Counsel in the Voting Section of the Civil Rights Division, 1800 G Street, NW., Washington, DC 20008.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology. e.g., permitting electronic submission of responses.

Overview of this information collection:

(1) Type of Information Collection: Extension of a Currently Approved Collection.

(2) Title of the Form/Collection: Procedures for the Administration of Section 5 of the Voting Rights Act of 1965.

(3) The Agency form number, if any, and the applicable component of the Department of Justice sponsoring the collection: Form Number: None. Applicable Component: Civil Rights Division, Department of Justice.

(4) Affected public who will be asked or required to respond, as well as a brief abstract. Primary: State, local or tribal governments. Other: None. Jurisdictions specifically covered under the Voting Rights Act are required to obtain preclearance from the Attorney General before instituting changes affecting voting. They must convince the Attorney General that proposed voting changes are not racially discriminatory. The procedures facilitate the provision of information that will enable the Attorney General to make the required determination.

(5) An estimate of the total number of respondents and the amount of time estimated for an average respondent to respond/reply: 10,103 respondents with the average response at 10.021 hours.

(6) An estimate of the total public burden (in hours) associated with the collection: 47,365 annual burden hours.

If additional information is required contact: Mr. Robert B. Briggs, Clearance Officer, United States Department of Justice, Information Management and Security Staff, Justice Management Division, 601 D Street, NW., Washington, DC 20004.

Dated: January 8, 2002
Robert B. Briggs,
Department Clearance Officer, United States Department of Justice.

[FR Doc. 02-867 Filed 1-11-02; 8:45 am]

BILLING CODE 4410-13-M